NUCLEAR REGULATORY COMMMISSION

Risk-Informed Revisions to Technical Requirements of 10 CFR 50.46

AGENCY: Nuclear Regulatory Commission.

ACTION: Notice of public workshop.

SUMMARY: The Nuclear Regulatory Commission has instructed its staff to explore changes to specific technical requirements of 10 CFR Part 50, to incorporate risk-informed attributes. The staff is studying the ensemble of technical requirements contained in 10 CFR Part 50 (and its associated implementing documents, such as regulatory guides and standard review plan sections) to (1) identify individual or sets of requirements potentially meriting change; (2) prioritize which of these requirements (or sets of requirements) should be changed; and (3) develop the technical bases to an extent that is sufficient to demonstrate the feasibility of changing the requirements. This work will result in recommendations to the Commission on any specific regulatory changes that should be pursued. Public participation in the development of these recommendations will be obtained via workshops and information on a web site.

SUPPLEMENTARY INFORMATION: This notice serves as initial notification of a public workshop to provide for the exchange of information with all stakeholders regarding the staff's efforts to risk-inform the technical requirements of 10 CFR 50.46 (ECCS Acceptance Criteria), and the latest version of the framework for risk-informed changes to the technical requirements of 10 CFR Part 50. The meeting will focus on the current work being performed by the NRC staff to risk-inform the technical requirements of 10 CFR 50.46, and also on recent changes to the framework document.

This notice provides only the date, the location and a brief summary of the workshop; the workshop agenda and other details will be provided in a forthcoming Federal Register notice prior to the workshop.

Workshop Meeting Information: The staff intends to conduct a workshop to provide for an exchange of information related to (1) the staff's initial efforts to make risk-informed revisions to the technical requirements of 10 CFR 50.46, and (2) the latest version of the staff's framework for risk-informed changes to the technical requirements of 10 CFR Part 50. Persons other than NRC staff and NRC contractors interested in making a presentation at the workshop should notify Mary Drouin, Office of Nuclear Regulatory Research, MS: T10-E50, U.S. Nuclear Regulatory Commission, Washington D.C. 20555-0001, (301) 415-6675, email: mxd@nrc.gov

Date: October 2, 2000.

Time: 8 am.

Agenda: To be provided.

Location: Auditorium, 11545 Rockville Pike, Rockville, Maryland 20852.

Registration: There is no registration fee for the workshop; however, so that adequate space, materials, etc., for the workshop can be arranged, please provide notification of attendance to Alan Kuritzky, Office of Nuclear Regulatory Research, MS: T10-E50, U.S. Nuclear Regulatory Commission, Washington, D.C. 20555-0001, (301) 415-6255, email: ask1@nrc.gov.

FOR FURTHER INFORMATION CONTACT: Alan Kuritzky, Office of Nuclear Regulatory Research, MS: T10-E50, U.S. Nuclear Regulatory Commission, Washington, D.C. 20555-0001, (301) 415-6255, email: ask1@nrc.gov.

Dated this 11th day of September 2000.
For the Nuclear Regulatory Commission.
Mark A. Cunningham,
Probabilistic Risk Analysis Branch, Division of Risk Analysis and Applications, Office of Nuclear Regulatory Research.

[FR Doc. 00-23786 Filed 9-14-00; 8:45 am]

BILLING CODE 7590-01-P